ENVIRONMENTAL PROTECTION AGENCY

40 CFR Parts 22, 124, and 257

[EPA-HQ-OLEM-2019-0361; FRL-10012-99-OLEM]

RIN 2050-AH07

Hazardous and Solid Waste Management System: Disposal of Coal Combustion Residuals From Electric Utilities; Federal CCR Permit Program; Reopening of Comment Period

AGENCY: Environmental Protection Agency (EPA).

ACTION: Proposed rule; reopening of comment period.

SUMMARY: The Environmental Protection Agency (EPA) issued a proposed rule in the Federal Register of February 20, 2020, concerning establishment of a federal permit program for disposal of coal combustion residuals (CCR). EPA has decided to reopen the comment period to allow submittal of additional comments on the proposal.

DATES: The comment period for the proposed rule published February 20, 2020, at 85 FR 9940, is reopened. Comments, identified by docket identification (ID) number EPA-HQ-OLEM-2019-0361, must be received on or before August 7, 2020.

ADDRESSES: Follow the detailed instructions provided under ADDRESSES in the Federal Register document of February 20, 2020 (85 FR 9940).

FOR FURTHER INFORMATION CONTACT: For technical information contact: Stacey Yonce, Office of Resource Conservation and Recovery, Environmental Protection Agency, 5304P, Washington, DC 20460; telephone number: (703) 308-8476; email address: yonce.stacey@epa.gov. For more information on this rulemaking please visit https://www.epa.gov/coalash.

SUPPLEMENTARY INFORMATION: This document reopens the public comment period established in the Federal Register document of February 20, 2020 (85 FR 9940), for 7 days, from July 31, 2020, to August 7, 2020. In that document, EPA proposed to establish a federal CCR permit program in accordance with the requirements of the Water Infrastructure Improvements for the Nation (WIIN) Act. EPA is hereby reopening the comment period for 7 days.

To submit comments, or access the docket, please follow the detailed instructions provided under ADDRESSES in the Federal Register document of February 20, 2020 (85 FR 9940). Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes. Hand deliveries and couriers may be received by scheduled appointment only. For further information on EPA Docket Center services and the current status, please visit us online at https://www.epa.gov/dockets.If you have questions, consult the technical person listed under FOR FURTHER INFORMATION CONTACT.

List of Subjects

40 CFR Part 22

Environmental protection, Administrative practice and procedure, Air pollution control, Hazardous substances, Hazardous waste, Penalties, Pesticides and pests, Poison prevention, Water pollution control.

40 CFR Part 124

Environmental protection, Administrative practice and procedure, Air pollution control, Hazardous waste, Indians—lands, Reporting and recordkeeping requirements, Water pollution control, Water supply.

40 CFR Part 257

Environmental protection, Beneficial use, Coal combustion products, Coal combustion residuals, Coal combustion waste, Disposal, Hazardous waste, Landfill, Surface impoundment.

Donna Salyer,
Acting Director, Office of Resource Conservation and Recovery.

[FR Doc. 2020-16482 Filed 7-30-20; 8:45 am]

BILLING CODE 6560-50-P